DEPARTMENT OF HEALTH AND HUMAN SERVICES

Administration for Children and Families

Proposed Information Collection Activity; Monitoring and Compliance for Office of Refugee Resettlement Care Provider Facilities (Office of Management and Budget #: 0970-0564)

AGENCY: Office of Refugee Resettlement, Administration for Children and Families, U.S. Department of Health and Human Services.

ACTION: Request for public comments.

SUMMARY: The Office of Refugee Resettlement (ORR), Administration for Children and Families (ACF), U.S. Department of Health and Human Services, is inviting public comments on the proposed collection. The request consists of several forms that allow the ORR Unaccompanied Children (UC) Program to enhance monitoring efforts at care provider facilities that are not licensed by the state, as well as continue standard monitoring activities that ensure care provider facilities are in compliance with federal and state laws and regulations, licensing and accreditation standards, ORR policies and procedures, and child welfare standards. This notice invites comments on forms that were recently submitted for emergency review and approval, and additional proposed forms.

DATES: In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description

New Forms for Unlicensed Facility Monitoring Visits

ORR is seeking expedited review from the Office of Management and Budget (OMB) (see notice titled Expedited Office of Management and Budget (OMB) Review and Public Comment: Monitoring and Compliance for Office of Refugee Resettlement Care Provider Facilities (OMB #: 0970-0564) in this issue of the Federal Register) for the below-described revisions to this information collection for the purpose of establishing quarterly health and safety monitoring visits for facilities located in states that are unwilling to license programs provider care to UC. This notice invites comments on these proposed changes and is the first step to extend approval by OMB.

1. Added Interpreter Questionnaire (Form M-11P), which is currently approved under OMB #0970-0558, to this information collection.

2. Added the following forms that were previously approved by OMB but were removed from the information collection due to the number of respondents. Differences between the previously approved versions and the current versions that will be used by contractor monitors are as noted below.

• Monitoring Notes (Form M-6A-UF)

○ Directions added to top of form.

• UC Case File Checklist (Form M-7A-UF)

○ Added a Read Me tab with directions.

○ Added a summary tab that auto-sums data from other tabs.

○ Revised the formatting of the UC Services tab.

• On Site Monitoring Checklist (M-9A-UF)

○ Removed section on mosquito control.

○ Under Documents that Should be Posted—Removed reference to two discontinued items.

○ Under Other—Removed reference to mosquito repellant.

○ Under Logs/Schedules—Removed reference to the discontinued UC Temperature Tracker.

3. Added the below-listed alternate versions of forms already approved under this information collection. Differences between the already approved versions and the alternate versions are as noted below. Unlicensed programs will continue to receive comprehensive biennial monitoring visits pursuant to UC Policy Guide Section 5.5.1 during which the full original versions of these forms will be used. Quarterly monitoring visits will mainly focus on health and safety. To align with that purpose and help streamline forms that will be administered more often than their full version counterparts, adjustments made to the alternate versions removed some items related to program management. Other adjustments were made for clarity or to align with current ORR policy and procedures. Quarterly monitoring visits will continue to monitor the same areas related to child welfare practices and provision of services as biennial monitoring visits.

• Site Visit Guide (Form M-7A-UF)

○ Under Child Protection—Added requirement for program to provide link to mandatory reporting laws/rules and specify who is classified as a mandatory reported in the state in which the program is located.

○ Under Background Checks—Clarified that information on foster parents is also required.

○ Removed reference to mosquito control inspections.

• Personnel File Checklist (Form M-10A-UF)

○ Under General Documentation—Removed job description; employment application; personal and professional references; educational records; professional licensure; and I-9 documents.

• Program Director Questionnaire (Form M-11A-UF)

○ Removed question on what changes the program director envisions for the program in the next year.

○ Modified the question on how the program incorporates input from others to assess the program to only ask about how input from minors and staff is used. Previously, the question asked how input from minors, staff, program partners, legal services providers, and sponsor is used.

• Clinician Questionnaire (Form M-11C-UF)

○ Removed question on what system the clinician uses to document clinical sessions.

○ Removed question asking clinician to describe their relationship with their supervisor.

• Case Manager Questionnaire (Form M-11E-UF)

○ Removed question asking case manager to describe their relationship with their supervisor.

• Education Staff Questionnaire (Form M-11G-UF)

○ No modifications made.

• Medical Coordinator Questionnaire (Form M-11I-UF)

○ Removed question asking medical coordinator to describe their relationship with their supervisor.

• Youth Care Worker Questionnaire (Form M-11J-UF)

○ Removed question on access to UC Portal.

○ Removed question on how often staff meetings are held.

○ Removed question asking youth care worker to describe their relationship with their supervisor.

• Prevention of Sexual Abuse Compliance Manager Staff Questionnaire (Form M-11K-UF)

○ No modifications made.

• Interpreter Questionnaire (Form M-11P-UF)

○ No modifications made.

• UC Questionnaire—Ages 6-12 Years Old (Forms M-12A-UF and M-12As-UF)

○ Under Communication with Family—Added question on how often and how long the child speaks with their family.

○ Removed placeholder sections on meetings with case management and clinical staff, which are not asked of children ages 6-12.

• UC Questionnaire—Ages 13 and Older (Forms M-12B-UF and M-12Bs-UF)

○ Under Admission/Orientation—Removed question asking what the child remembers about documents signed/received during the first couple days.

○ Under Communication with Family—Added question on how often and how long the child speaks with their family. Removed question on sending/receiving mail and email.

• UC Questionnaire—Ages 5 and Under (Form M-12E-UF and M-12Es-UF)

○ No modifications made.

• Legal Service Provider Questionnaire (Form M-13C-UF)

○ Reworded questions on ability to perform Know Your Rights and legal screenings.

○ Removed question on with which program staff members legal service providers regularly interact.

○ Removed questions method used to inform legal service providers of incidents affecting the child's legal case.

• Case Coordinator Questionnaire (Form M-13E-UF)

○ No modifications made.

New Forms for Interim Final Rule (IFR) Audits

In addition to extending approval of the revisions described above, which were submitted for expedited review and approval, ORR is seeking approval to add eight new instruments that will allow ORR to audit its care provider programs for compliance with the IFR on Standards to Prevent, Detect, and Respond to Sexual Abuse and Sexual Harassment Involving Unaccompanied Children (45 CFR Subpart L). These instruments are currently in use without OMB approval; this request will allow ORR to comply with the Paperwork Reduction Act requirements. The proposed new instruments are:

• Preaudit Questionnaire and Audit Documentation Requested Checklist (Form M-17A)

• Instructions for Site Visit and Facility Tour (Form M-17B)

• Interview Guide: Random Sample of Staff Interview (Form M-17C)

• Interview Guide: Program Director (Form M-17D)

• Interview Guide: Prevention of Sexual Abuse (PSA) Compliance Manager (Form M-17E)

• Interview Guide: Specialized Staff (Form M-17F)

• Interview Guide: Unaccompanied Child (Form M-17G)

• PSA Audit Corrective Action Report (Form M-17H)

Revisions to Existing Forms in This Information Collection

The below noted revisions were made to existing forms in this collection to better align with ORR policies and procedures and strengthen monitoring protocols.

• Site Visit Guide (Form M-7A)

○ Under Child Protection—Added requirement for program to provide link to mandatory reporting laws/rules and specify who is classified as a mandatory reported in the state in which the program is located.

○ Under Background Checks—Clarified that information on foster parents is also required.

○ Removed reference to mosquito control inspections.

• Long Term Foster Care (LTFC) Site Visit Guide (Form M-7C)

○ Under Program Management—Added requirement to describe internal policies and procedures related to referral and placement.

○ Under Case Management—Clarified what programs must provide related to their procedures on post-18 planning.

○ Under Problems Encountered—Removed requirement to provide list of commonly used partnerships and services.

○ Added a note clarifying that ORR will request foster parent documentation for foster homes that are visited during the site visit.

• LTFC Foster Parent Checklist (Form M-10D)

○ Under General Documentation—Added requirement for monitors to check for completed foster home study assessments/inspections.

For information about all currently approved forms under this OMB number, see: https://www.reginfo.gov/public/do/PRAViewICR?ref_nbr=202108-0970-016.

Respondents: ORR grantee and contractor staff; foster parents; and UC.

Annual Burden Estimates:

Note: These burden estimates include burden related to the revisions described above and currently approved forms for which we are not proposing any changes.

Estimated Burden Hours for Respondents
Information collection title | Annual number of respondents | Annual number of responses per respondent | Average burden hours per response | Annual total burden hours
Corrective Action Report (Form M-1) | 262 | 0.4 | 5.00 | 524.00
FFS Compliance and Safety Site Visit Report (Form M-3A) | 262 | 12.0 | 1.00 | 3,144.00
Out-of-Network Site Visit Report (Form M-3B) | 24 | 5.0 | 1.00 | 120.00
Checklist for a Child-Friendly Environment (Form M-4) | 262 | 12.0 | 0.25 | 786.00
Incident Reviews (Forms M-5A to M-5B) | 262 | 0.3 | 1.50 | 117.90
Site Visit and Remote Monitoring Site Visit Guides (Forms M-7A to M-7B) | 114 | 1.0 | 13.00 | 1,482.00
LTFC Site Visit and LTFC Remote Monitoring Site Visit Guides (Forms M-7C to M-7D) | 18 | 1.0 | 6.00 | 108.00
Home Study and Post-Release Services Site Visit Guide (Form M-7E) | 30 | 1.0 | 6.00 | 180.00
Voluntary Agency Site Visit Guide (Form M-7F) | 5 | 1.0 | 8.00 | 40.00
Unlicensed Facility Site Visit Guide (Form M-7A-UF) | 56 | 4.0 | 1.00 | 224.00
Unlicensed Facility UC Case File Checklist (Form M-8A-UF) | 56 | 20.0 | 1.00 | 1,120.00
Program Staff Questionnaires (Forms M-11A to M-11K) | 917 | 1.0 | 1.00 | 917.00
Secure Detention Officer Questionnaire (Form M-11L) | 1 | 1.0 | 1.00 | 1.00
Long Term Foster Care Home Finder Questionnaire (Form M-11M) | 18 | 1.0 | 1.00 | 18.00
Long Term Foster Care Independent Living Life Skills Staff Questionnaire (Form M-11N) | 18 | 1.0 | 1.00 | 18.00
Long Term Foster Care Foster Parent Questionnaire (form M-11O) | 35 | 1.0 | 0.75 | 26.25
Interpreter Questionnaire (Form M-11P) | 115 | 2.0 | 0.50 | 115.00
Unlicensed Facility Program Staff Questionnaires (Forms M-11A-UF to M-11K-UF) | 56 | 32.0 | 1.00 | 1,792.00
Unlicensed Facility Interpreter Questionnaire (Form M-11P-UF) | 56 | 4.0 | 0.50 | 112.00
UC Questionnaires (Forms M-12A to M-12B & M-12E) | 563 | 1.0 | 0.50 | 281.50
Long Term Foster Care Client Questionnaire (M-12C) | 88 | 1.0 | 0.50 | 44.00
Secure Client Questionnaire (Form M-12D) | 5 | 1.0 | 0.50 | 2.50
Unlicensed Facility UC Questionnaires (Forms M-12A-UF to M-12B-UF & M-12E-UF) | 1,120 | 1.0 | 0.50 | 560.00
Home Study and Post-Release Services Director Questionnaire (Form M-13A) | 30 | 1.0 | 1.00 | 30.00
Home Study and Post-Release Services Caseworker Questionnaire (Form M-13B) | 90 | 1.0 | 1.00 | 90.00
Legal Service Provider Questionnaire (Form M-13C) | 114 | 1.0 | 1.00 | 114.00
Long Term Foster Care Legal Service Provider Questionnaire (Form M-13D) | 18 | 1.0 | 0.75 | 13.50
Case Coordinator Questionnaire (Form M-13E) | 131 | 1.0 | 1.00 | 131.00
Unlicensed Facility Legal Service Provider Questionnaire (Form M-13C-UF) | 224 | 1.0 | 0.75 | 168.00
Unlicensed Facility Case Coordinator Questionnaire (Form M-13E-UF) | 224 | 1.0 | 1.00 | 224.00
Preaudit Questionnaire and Audit Documentation Requested Checklist (Form M-17A) | 78 | 1.0 | 4.00 | 312.00
Instructions for Site Visit and Facility Tour (Form M-17B) | 78 | 1.0 | 2.00 | 156.00
Interview Guide: Random Sample of Staff Interview (Form M-17C) | 312 | 1.0 | 1.00 | 312.00
Interview Guide: Program Director (Form M-17D) | 78 | 1.0 | 1.00 | 78.00
Interview Guide: PSA Compliance Manager (Form M-17E) | 78 | 1.0 | 1.00 | 78.00
Interview Guide: Specialized Staff (Form M-17F) | 156 | 1.0 | 1.00 | 156.00
Interview Guide: Unaccompanied Child (Form M-17G) | 780 | 1.0 | 0.50 | 390.00
PSA Audit Corrective Action Report (Form M-17H) | 78 | 1.0 | 1.00 | 78.00
Estimated Annual Burden Hours Total: |  |  |  | 14,063.65

Estimated Burden Hours for Contractor Monitors and Contractor Auditors
Information collection title | Annual number of respondents | Annual number of responses per respondent | Average burden hours per response | Annual total burden hours
Unlicensed Facility Monitoring Notes (Form M-6A-UF) | 18 | 12.0 | 12.00 | 2,592.00
Unlicensed Facility Site Visit Guide (Form M-7A-UF) | 18 | 12.0 | 29.00 | 6,264.00
Unlicensed Facility UC Case File Checklist (Form M-8A-UF) | 18 | 62.0 | 6.00 | 6,696.00
Unlicensed Facility On-Site Monitoring Checklist (Form M-9A-UF) | 18 | 12.0 | 4.00 | 864.00
Unlicensed Facility Personnel File Checklist (Form M-10A-UF) | 18 | 50.0 | 1.00 | 900.00
Unlicensed Facility Program Staff Questionnaires (Forms M-11A-UF to M-11K-UF) | 18 | 100.0 | 1.00 | 1,800.00
Unlicensed Facility Interpreter Questionnaire (Form M-11P-UF) | 18 | 12.0 | 0.50 | 108.00
Unlicensed Facility UC Questionnaires (Forms M-12A-UF to M-12B-UF & M-12E-UF) | 18 | 62.0 | 0.50 | 558.00
Unlicensed Facility Legal Service Provider Questionnaire (Form M-13C-UF) | 18 | 12.0 | 0.75 | 162.00
Unlicensed Facility Case Coordinator Questionnaire (Form M-13E-UF) | 18 | 12.0 | 1.00 | 216.00
Preaudit Questionnaire and Audit Documentation Requested Checklist (Form M-17A) | 8 | 48.0 | 3.00 | 1,152.00
Instructions for Site Visit and Facility Tour (Form M-17B) | 8 | 48.0 | 1.00 | 384.00
Interview Guide: Random Sample of Staff Interview (Form M-17C) | 8 | 48.0 | 1.00 | 384.00
Interview Guide: Program Director (Form M-17D) | 8 | 48.0 | 1.00 | 384.00
Interview Guide: PSA Compliance Manager (Form M-17E) | 8 | 48.0 | 1.00 | 384.00
Interview Guide: Specialized Staff (Form M-17F) | 8 | 48.0 | 1.00 | 384.00
Interview Guide: Unaccompanied Child (Form M-17G) | 8 | 48.0 | 0.50 | 192.00
PSA Audit Corrective Action Report (Form M-17H) | 8 | 48.0 | 2.00 | 768.00
Estimated Annual Burden Hours Total: |  |  |  | 24,192.00

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996); 45 CFR part 411

Mary B. Jones,
ACF/OPRE Certifying Officer.

[FR Doc. 2022-23342 Filed 10-25-22; 8:45 am]

BILLING CODE 4184-45-P